DEPARTMENT OF HOMELAND SECURITY

Federal Emergency Management Agency

[Docket ID: FEMA-2019-0022; OMB No. 1660-0134]

Agency Information Collection Activities: Submission for OMB Review; Comment Request; Preparedness Activity Registration and Feedback

AGENCY: Federal Emergency Management Agency, DHS.

ACTION: Notice and request for comments.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before February 18, 2020.

ADDRESSES: Submit written comments on the proposed information collection to the Office of Information and Regulatory Affairs, Office of Management and Budget. Comments should be addressed to the Desk Officer for the Department of Homeland Security, Federal Emergency Management Agency, and sent via electronic mail to dhsdeskofficer@omb.eop.gov.

FOR FURTHER INFORMATION CONTACT: Requests for additional information or copies of the information collection should be made to Director, Information Management Division, 500 C Street SW, Washington, DC 20472, email address FEMA-Information-Collections-Management@fema.dhs.gov or Christi Collins, AICP, Branch Chief, Preparedness Behavior Change, Individual and Community Preparedness Division (ICPD), National Preparedness Directorate, FEMA, DHS, 400 C Street SW, Washington, DC 20024, 202.615.9865. Christi.collins@fema.dhs.gov.

SUPPLEMENTARY INFORMATION: This proposed information collection previously published in the Federal Register on November 8, 2019 at 84 FR 60403. No comments were received. The purpose of this notice is to notify the public that FEMA will submit the information collection abstracted below to the Office of Management and Budget for review and clearance.

Collection of Information

Title: Preparedness Activity Registration and Feedback.

Type of Information Collection: Revision of a currently approved information collection.

OMB Number: 1660-0134 (and moving a survey from Generic Clearance, 1660-0130).

Form Titles and Numbers: FEMA Form 008-0-8 (Preparedness Activity Registration) and FEMA Form 519-0-11 (Preparedness Activity Feedback Form).

Abstract: This collection will allow ICPD to gather the following information from the public via web form(s):

• Feedback: General feedback on the effectiveness of national FEMA preparedness programs and initiatives and website user experience

• Activity Details: Information regarding the type, size and location of preparedness activities hosted by members of the public and community organizers

• POC Information: For registration within the site and follow-on communication, if needed

• Future Engagement Requests: Allow for the public to enroll in the ICPD newsletter or other public communications

• Publication Ordering: Submitting requests to the FEMA publication warehouse to have materials shipped directly to members of the public

To fulfill its mission FEMA's ICPD collects information from individuals and organizations by the Preparedness Activity Registration Form and the Preparedness Activity Feedback Form located within a public website (called the “Preparedness Portal”). This collection facilitates FEMA's ability to assess its progress for the following programs:

• Ready 2 Help (www.ready.gov/game)

• You Are the Help Until Help Arrives (www.ready.gov/until-help-arrives)

• Event Registration (www.ready.gov/prepare) (includes Prepareathon event registration)

• Collections where ICPD partners with other National Preparedness Directorate (NPD) offices

As new programs or initiatives are created, ICPD will leverage the pre-approved questions in the question bank provided for this collection. Known future activities include:

• Community-Based Organization Continuity and Resilience Training

• Website User Experience Feedback

ICPD uses this information to inform the continuous improvement of the programs and the Division's outreach. Further, the information allows the Division to analyze seasonal trends in preparedness across the variety of programs. Raw data is not shared outside of the database; only results of the data assessment is shared. The data is used for internal reports as well as public-facing talking points.

As new programs or initiatives are created, ICPD will leverage the pre-approved questions in the question bank provided for this collection. Known future activities include:

• Community-Based Organization Continuity and Resilience Training

• Website User Experience Feedback

ICPD uses this information to inform the continuous improvement of the programs and the Division's outreach. Further, the information allows the Division to analyze seasonal trends in preparedness across the variety of programs. Raw data is not shared outside of the database; only results of the data assessment is shared. The data is used for internal reports as well as public-facing talking points.

Affected Public: Individuals, organizations and groups who wish to register for ICPD Preparedness activities to take advantage of FEMA's related resources and available supporting materials.

Estimated Number of Respondents: 86,115.

Estimated Number of Responses: 86,115.

Estimated Total Annual Burden Hours: 7,174.

Estimated Total Annual Respondent Cost: $196,424.

Estimated Respondents' Operation and Maintenance Costs: There are no operation and maintenance costs for respondents.

Estimated Respondents' Capital and Start-Up Costs: There are no capital and start-up costs for respondents.

Estimated Total Annual Cost to the Federal Government: $12,205.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Maile Arthur,
Deputy Director of Information Management, Mission Support, Federal Emergency Management Agency, Department of Homeland Security.

[FR Doc. 2020-00711 Filed 1-16-20; 8:45 am]

BILLING CODE 9111-27-P